DEPARTMENT OF COMMERCE

National Oceanic and Atmospheric Administration

RIN 0648-XA603

Endangered Species; File No. 15802

AGENCY: National Marine Fisheries Service (NMFS), National Oceanic and Atmospheric Administration (NOAA), Commerce.

ACTION: Notice; receipt of application.

SUMMARY: Notice is hereby given that Florida Fish and Wildlife Conservation Commission, 100 Eighth Avenue, SE, St. Petersburg, FL 33701 [Gregg Poulakis, Responsible Party], has applied in due form for a permit to take smalltooth sawfish and listed sea turtle species for purposes of scientific research.

DATES: Written, telefaxed, or e-mail comments must be received on or before August 29, 2011.

ADDRESSES: The application and related documents are available for review by selecting “Records Open for Public Comment” from the Features box on the Applications and Permits for Protected Species (APPS) home page, https://apps.nmfs.noaa.gov, and then selecting File No. 15802 from the list of available applications.

These documents are also available upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

Written comments on this application should be submitted to the Chief, Permits, Conservation and Education Division

• By e-mail to NMFS.Pr1Comments@noaa.gov (include the File No. in the subject line of the e-mail),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Jennifer Skidmore or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to monitor smalltooth sawfish (Pristis pectinata) populations of Florida, primarily in the greater Charlotte Harbor estuarine system. Annually, up to 125 sawfish would be captured by gillnet, seine, or longline, handled, measured, passive integrated transponder, roto, and external satellite tagged, tissue and biopsy sampled, examined by ultrasound, and released. Dead sawfish acquired through strandings or from law enforcement confiscations would be sampled for scientific purposes. The applicant also seeks authorization to capture green (Chelonia mydas), hawksbill (Eretmochelys imbricata), Kemp's ridley (Lepidochelys kempii), leatherback (Dermochelys coriacea), and loggerhead (Caretta caretta) sea turtles. Sea turtles would be measured, photographed, and released. The permit is requested for a duration of 5 years.

Dated: July 22, 2011.
P. Michael Payne,
Chief, Permits, Conservation and Education Division, Office of Protected Resources, National Marine Fisheries Service.

[FR Doc. 2011-19122 Filed 7-27-11; 8:45 am]

BILLING CODE 3510-22-P